DEPARTMENT OF ENERGY

Federal Energy Regulatory Commission

[Docket No. RP03-480-000]

Wyoming Interstate Company, Ltd.; Notice of Technical Conference

July 9, 2003.

The Commission, in its order issued June 18, 2003,¹ directed that a technical conference be held to investigate Wyoming's proposed tightening of the sulphur specifications in its tariff and to address the concerns raised in the protests of the parties.

¹ Wyoming Interstate Company, Ltd., 103 FERC ] 61,334 (2003).

Take notice that a technical conference will be held on Thursday, July 24, 2003, at 10 am, in a room to be designated at the offices of the Federal Energy Regulatory Commission, 888 First Street, NE., Washington DC 20426.

All interested parties and staff are permitted to attend.

Magalie Salas,
Secretary.

[FR Doc. 03-17891 Filed 7-15-03; 8:45 am]

BILLING CODE 6717-01-P